DEPARTMENT OF LABOR

Employment and Training Administration

Public Meeting of the Advisory Committee on Apprenticeship (ACA)

AGENCY: Employment and Training Administration (ETA), Labor.

ACTION: Notice of a public meeting.

SUMMARY: Pursuant to the Federal Advisory Committee Act (FACA), notice is hereby given to announce a public meeting of the ACA. All meetings of the ACA are open to the public.

DATES: The meeting will be held on Tuesday June 4, 2024, The meeting will begin at approximately 1:30 p.m. Eastern Standard Time (EST) and end at approximately 4 p.m. EST. The meeting will reconvene on Wednesday, June 5, 2024, at 9:30 a.m. EST and adjourn at approximately 4:30 p.m. EST.

ADDRESSES: U.S. Department of Labor, Frances Perkins Building located at 200 Constitution Avenue NW, Washington, DC 20210.

Any updates to the agenda and meeting logistics will be posted on the Office of Apprenticeship's website at: https://www.apprenticeship.gov/advisory-committee-apprenticeship.

FOR FURTHER INFORMATION CONTACT: The Designated Federal Officer (DFO), Mr. John V. Ladd, Administrator, Office of Apprenticeship, Employment and Training Administration, U.S. Department of Labor, 200 Constitution Avenue NW, Room C-5321, Washington, DC 20210; Email: AdvisoryCommitteeonApprenticeship@dol.gov; Telephone: (202) 693-2796 (this is not a toll-free number).

SUPPLEMENTARY INFORMATION: The ACA is a discretionary committee that was renewed by the Acting Secretary of Labor in accordance with the FACA (5 U.S.C. App. 2 § 10), as amended in 5 U.S.C. App. 2, and its implementing regulations (41 CFR 101-6 and 102-3). The ACA's Charter was renewed on May 11, 2023, and is active for two years. This will be the first meeting of the renewed ACA. All meeting materials, including all previous term materials, are posted here: https://www.apprenticeship.gov/advisory-committee-apprenticeship. All meetings are open to the public. To promote greater access, webinar and audio conference technology will be used to support public participation in the meeting. In-person space for the meeting is limited. Please send an email to AdvisoryCommitteeonApprenticeship@dol.gov if you plan to attend the meeting in-person, no later than Tuesday, May 28, 2024. Members of the public that are unable to join the meeting in-person are encouraged to join the meeting virtually. Both the in-person and virtual login instructions will be posted prominently on the Office of Apprenticeship's website at: https://www.apprenticeship.gov/advisory-committee-apprenticeship. If individuals have special needs and/or disabilities that will require special accommodations, please contact Kenya Huckaby at (202) 693-3795 or via email at huckaby.kenya@dol.gov no later than Tuesday, May 28, 2024.

Instructions to Attend the Meeting In-Person: Send an email to AdvisoryCommitteeonApprenticeship@dol.gov no later than Tuesday, May 28, 2024, to request to attend the meeting in-person. As outlined above, DOL is located at 200 Constitution Avenue NW, Washington, DC 20210.

Instructions to Attend the Meeting Virtually: Virtual meeting participants have two options to access the meeting. Virtual meeting participants can access the meeting by computer or by phone. To access the meeting by computer, meeting participants will use the meeting link and event password below. To access the meeting by phone, meeting participants will use the dial-in number and access code below.

Tuesday, June 4, 2024

• Computer Access

○ https://usdolevents.webex.com/usdolevents/j.php?MTID=m49a79d67c5d44367424bbea5a397292b

○ Access code: 2824 377 2245

○ Webinar password: Welcome!24

• Telephone Access

○ Dial 877-465-7975

○ Access code: 2824 377 2245

○ Telephone password: 93526631

Wednesday, June 5, 2024

• Computer access

○ https://usdolevents.webex.com/usdolevents/j.php?MTID=mac104df373fc771e1b7ef29142d1ef31

○ Access code: 2831 404 4991

○ Webinar password: Welcome!24

• Telephone Access

○ Dial 877-465-7975

○ Access code: 2831 404 4991

○ Telephone password: 93526631

Virtual meeting instructions will also be posted on posted on the Office of Apprenticeship's website at: https://www.apprenticeship.gov/advisory-committee-apprenticeship. Any member of the public who wishes to file written data or comments pertaining to the agenda may do so by sending the data or comments to Mr. John V. Ladd via email at AdvisoryCommitteeonApprenticeship@dol.gov using the subject line “June 2024 ACA Meeting.” Such submissions will be included in the record for the meeting if received by Tuesday, May 28, 2024. See below regarding members of the public wishing to speak at the ACA meeting.

Purpose of the Meeting and Topics to Be Discussed: The primary purpose of the June 2024 ACA meeting is to onboard the new membership, provide updates regarding the National Apprenticeship system, and discuss planned activities for the future term. The agenda will focus on Federal initiatives, as well as highlighting current state and international apprenticeship partnerships. Anticipated agenda topics for this meeting include the following:

• Call to Order

• Welcome and Departmental Remarks

• Updates regarding the National Apprenticeship System

• ACA Road Map

• Federal, State, and International Initiatives and Partnerships

• Public Comment

• Adjourn

The agenda and meeting logistics may be updated should priority items come before the ACA between the time of this publication and the scheduled date of the ACA meeting. All meeting updates will be posted to the Office of Apprenticeship's website at: https://www.apprenticeship.gov/advisory-committee-apprenticeship. Any member of the public who wishes to speak at the meeting should indicate the nature of the intended presentation and the amount of time needed by furnishing a written statement to the Designated Federal Officer, Mr. John V. Ladd, via email at AdvisoryCommitteeonApprenticeship@dol.gov, by Tuesday, May 28, 2024. The Chairperson will announce at the beginning of the meeting the extent to which time will permit the granting of such requests.

José Javier Rodríguez,
Assistant Secretary for Employment and Training, Labor.

[FR Doc. 2024-08687 Filed 4-23-24; 8:45 am]

BILLING CODE 4510-FR-P